COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds to the Procurement List commodities and services to be furnished by nonprofit agencies employing persons who are blind or have other severe disabilities, and deletes from the Procurement List commodities previously furnished by such agencies.

EFFECTIVE DATE: December 10, 2001.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly (703) 603-7740.

SUPPLEMENTARY INFORMATION: On May 4, June 8, June 22, July 27, August 3, August 10, September 18, and September 21, 2001 the Committee for Purchase From People Who Are Blind or Severely Disabled published notices (66 FR 22516, 30884, 33521, 39142 and 39143, 40671, 42198, 48116, 48661 and 48662) of proposed additions to and deletions from the Procurement List:

Additions

After consideration of the material presented to it concerning capability of qualified nonprofit agencies to provide the commodities and services and impact of the additions on the current or most recent contractors, the Committee has determined that the commodities and services listed below are suitable for procurement by the Federal Government under 41 U.S.C. 46-48c and 41 CFR 51-2.4.

I certify that the following action will not have a significant impact on a substantial number of small entities. The major factors considered for this certification were:

1. The action will not result in any additional reporting, recordkeeping or other compliance requirements for small entities other than the small organizations that will furnish the commodities and services to the Government.

2. The action will not have a severe economic impact on current contractors for the commodities and services.

3. The action will result in authorizing small entities to furnish the commodities and services to the Government.

4. There are no known regulatory alternatives which would accomplish the objectives of the Javits-Wagner-O'Day Act (41 U.S.C. 46—48c) in connection with the commodities and services proposed for addition to the Procurement List.

Accordingly, the following commodities and services are added to the Procurement List

Commodities

Cord, Fibrous, Nylon

4020-00-246-0688

Cabinet, Fitting Kit

4730-01-112-3240

Kit, First Aid

6545-01-465-1800

6545-01-465-1823

6545-01-465-1846

6545-00-663-9032

6545-00-664-5313

6545-01-425-4663

Services

Grounds Maintenance

U.S. Coast Guard

Training Center—Two Rocks

Petaluma, California

Janitorial/Custodial

Willow Grove Air Reserve Station

Willow Grove, Pennsylvania

Janitorial/Custodial

Whidbey Island Naval Air Station

Buildings 65, 117 and 2679

Oak Harbor, Washington

This action does not affect current contracts awarded prior to the effective date of this addition or options that may be exercised under those contracts.

Deletions

I certify that the following action will not have a significant impact on a substantial number of small entities. The major factors considered for this certification were:

1. The action will not result in any additional reporting, recordkeeping or other compliance requirements for small entities.

2. The action will not have a severe economic impact on future contractors for the commodities and services.

3. The action will result in authorizing small entities to furnish the commodities and services to the Government.

4. There are no known regulatory alternatives which would accomplish the objectives of the Javits-Wagner-O'Day Act (41 U.S.C. 46-48c) in connection with the commodities and services deleted from the Procurement List.

After consideration of the relevant matter presented, the Committee has determined that the commodities listed below are no longer suitable for procurement by the Federal Government under 41 U.S.C. 46-48c and 41 CFR 51-2.4. Accordingly, the following commodities are deleted from the Procurement List:

Commodities:

Acquisition & Distribution of AA-Cell Batteries, Tier AD

6135-00-643-1309

Body Fluids Barrier Kit

6515-01-376-7247

Tablecloth, Disposable

7210-01-395-7912 A & B

7210-01-395-7914 A & B

7210-01-395-7915 A & B

7210-01-395-7916 A & B

7210-01-395-7917 A & B

7210-01-395-9192 A & B

Mat, Floor

7220-00-165-7020

7220-00-238-8854

Peeler, Potato, Hand

7330-00-238-8316

Dining Packet

7360-00-935-6407

Binder, Note Pad

7510-00-728-8060

Ballpoint Pen, Stick, Rubberized Barrel

7520-01-422-0319

Refill, Ballpoint Pen, Stick, Rubberized

7510-01-357-6831

7510-01-357-6832

7510-01-357-6834

Pen, Rubberized, Retractable with Refills

7520-01-446-4853

7520-01-446-4854

Tray, Desk, Plastic

7520-01-094-4311

7520-01-094-4312

Card, Guide, File

7530-00-988-6518

7530-00-988-6521

7530-00-988-6522

Short-Run, Printing

7690-00-NSH-0024

7690-00-NSH-0025

Lacquer

8010-00-085-0559

Enamel, Lacquer

8010-00-942-8712

Sheryl D. Kennerly,
Director, Information Management.

[FR Doc. 01-28211 Filed 11-8-01; 8:45 am]

BILLING CODE 6353-01-P